DEPARTMENT OF DEFENSE

Defense Acquisition Regulation System

[Docket No. 2012-0044-0001]

Submission for OMB Review; Comment Request

ACTION: Notice.

The Defense Acquisition Regulations System has submitted to OMB for clearance, the following proposal for collection of information under the provisions of the Paperwork Reduction Act (44 U.S.C. chapter 35).

DATES: Consideration will be given to all comments received by April 11, 2013.

Title, Associated Forms and OMB Number: Defense Federal Acquisition Regulation Supplement (DFARS) part 242, Contract Administration and Audit Services, and related clauses in DFARS part 252; DD Form 1659, Application for U.S. Government Shipping Documentation/Instructions; DFARS 247.207 and the related clause at 252.247-7028; OMB Control Number 0704-0250.

Type of Request: Extension.

Number of Respondents: 5,583.

Responses Per Respondent: 27.2.

Annual Responses: 152,014.

Average Burden per Response: 1.3 hours.

Annual Burden Hours: 202,103.

Needs and Uses: The Government requires this information in order to perform its contract administration functions. DoD uses the information as follows:

a. The information required by DFARS subpart 242.11 is used by contract administration offices to monitor contract progress, identify factors that may delay contract performance, and to ascertain potential contract delinquencies.

b. The information required by DFARS 252.242-7004 is used by contracting officers use to determine if contractor material management and accounting systems conform to established DoD standards.

c. The information required by DFARS 252.247-7028, and submitted on DD Form 1659, is used by contract administration offices and transportation officers to provide bills of lading to contractors. This requirement was previously addressed at DFARS 242.1404-2-70, and the related clause at DFARS 252.242-7003. Since the last renewal of this public information collection requirement, DFARS 242.14 has been realigned under DFARS part 247; therefore, when the associated OMB Clearance (No. 0704-0245) for DFARS part 247 is renewed in 2014, the information required by DFARS 252.247-7028 will be included in that renewal request and will not be included in any future renewal requests for DFARS part 242, Contract Administration and Audit Services.

Affected Public: Businesses or other for-profit and not-for-profit institutions.

Frequency: On occasion.

Respondent's Obligation: Required to obtain or maintain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Ms. Patricia Toppings.

Written requests for copies of the information collection proposal should be sent to Ms. Toppings at WHS/ESD/Information Management Division, 4800 Mark Center Drive, 2nd Floor, East Tower, Suite 02G09, Alexandria, VA 22350-3100.

Kortnee Stewart,
Editor, Defense Acquisition Regulations System.

[FR Doc. 2013-05613 Filed 3-11-13; 8:45 am]

BILLING CODE 5001-06-P